DEPARTMENT OF COMMERCE

Foreign-Trade Zones Board

[B-44-2014]

Foreign-Trade Zone 20, Authorization of Production Activity, Becker Hydraulics USA, Inc., (Hydraulic Hose Lines) Chesapeake, VA

On June 4, 2014, the Virginia Port Authority, grantee of FTZ 20, submitted a notification of proposed production activity to the Foreign-Trade Zones (FTZ) Board on behalf of Becker Hydraulics USA, Inc., within FTZ 20, in Chesapeake, Virginia.

The notification was processed in accordance with the regulations of the FTZ Board (15 CFR part 400), including notice in the Federal Register inviting public comment (79 FR 36288, 6-26-2014). The FTZ Board has determined that no further review of the activity is warranted at this time. The production activity described in the notification is authorized, subject to the FTZ Act and the FTZ Board's regulations, including Section 400.14.

Dated: October 6, 2014.
Andrew McGilvray,
Executive Secretary.

[FR Doc. 2014-24268 Filed 10-9-14; 8:45 am]

BILLING CODE 3510-DS-P